DEPARTMENT OF COMMERCE

International Trade Administration

Announcement of Approved International Trade Administration Trade Missions

AGENCY: International Trade Administration, Department of Commerce.

ACTION: Notice.

SUMMARY: The United States Department of Commerce, International Trade Administration (ITA), is announcing two upcoming trade missions that will be recruited, organized, and implemented by ITA. These missions are:

• U.S. ICT and Energy Efficiency Trade Mission to the Western Balkans—October 23-28, 2022

• Healthcare Sector Business Development Mission to Thailand, Vietnam, and Malaysia—September 19-24, 2022

A summary of each mission is found below. Application information and more detailed mission information, including the commercial setting and sector information, can be found at the trade mission website: https://www.trade.gov/trade-missions.

For each mission, recruitment will be conducted in an open and public manner, including publication in the Federal Register, posting on the Commerce Department trade mission calendar (https://www.trade.gov/trade-missions-schedule) and other internet websites, press releases to general and trade media, direct mail, broadcast fax, notices by industry trade associations and other multiplier groups, and publicity at industry meetings, symposia, conferences, and trade shows.

FOR FURTHER INFORMATION CONTACT: Jeffrey Odum, Events Management Task Force, International Trade Administration, U.S. Department of Commerce, 1401 Constitution Avenue NW, Washington, DC 20230; telephone (202) 482-6397 or email Jeffrey.Odum@trade.gov.

The Following Conditions for Participation Will Be Used for Each Mission

Applicants must submit a completed and signed mission application and supplemental application materials, including adequate information on their products and/or services, primary market objectives, and goals for participation to allow the Department of Commerce to evaluate their application. If the Department of Commerce receives an incomplete application, the Department may either: Reject the application, request additional information/clarification, or take the lack of information into account when evaluating the application. If the requisite minimum number of participants is not selected for the mission by the recruitment deadline, the mission may be cancelled.

Each applicant must also certify that the products and services it seeks to export through the mission are either produced in the United States, or, if not, are marketed under the name of a U.S. firm and have at least 51% U.S. content by value. In the case of an organization, the applicant must certify that, for each entity to be represented by the organization, the products and/or services the represented firm or service provider seeks to export are either produced in the United States or, if not, marketed under the name of a U.S. firm and have at least 51% U.S. content.

An organization applicant must certify to the above for all of the companies it seeks to represent on the mission.

In addition, each applicant must:

• Certify that the export of products and services that it wishes to market through the mission is in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The Following Selection Criteria Will Be Used for Each Mission

Targeted mission participants are U.S. firms, services providers and organizations (universities, research institutions, or financial services trade associations) providing or promoting U.S. products and services that have an interest in entering or expanding their business in the mission's destination country. The following criteria will be evaluated in selecting participants:

• Suitability of the applicant's (or in the case of an organization, represented firm's or service provider's) products or services to these markets;

• The applicant's (or in the case of an organization, represented firm's or service provider's) potential for business in the markets, including likelihood of exports resulting from the mission; and

• Consistency of the applicant's (or in the case of an organization, represented firm's or service provider's) goals and objectives with the stated scope of the mission.

Balance of applicant's size and location may also be considered during the review process.

Referrals from a political party or partisan political group or any information, including on the application, containing references to political contributions or other partisan political activities will be excluded from the application and will not be considered during the selection process. The sender will be notified of these exclusions.

Trade Mission Participation Fees

If and when an applicant is selected to participate on a particular mission, a payment to the Department of Commerce in the amount of the designated participation fee below is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

If a visa is required to travel on a particular mission, applying for and obtaining such a visa will be the responsibility of the mission participant. Government fees and processing expenses to obtain such a visa are not included in the participation fee. However, the Department of Commerce will provide instructions to each participant on the procedures required to obtain business visas.

Trade Mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/travel/en/traveladvisories/traveladvisories.html/. Any question regarding insurance coverage must be resolved by the participant and its insurer of choice.

Definition of Small- and Medium-Sized Enterprise

For purposes of assessing participation fees, an applicant is a small or medium-sized enterprise (SME) if it qualifies under the Small Business Administration's (SBA) size standards (https://www.sba.gov/document/support-table-size-standards), which vary by North American Industry Classification System (NAICS) Code. The SBA Size Standards Tool [https://www.sba.gov/size-standards/] can help you determine the qualifications that apply to your company.

Important Note About the Covid-19 Pandemic

Travel and in-person activities are contingent upon the safety and health conditions in the United States and the mission countries. Should safety or health conditions not be appropriate for travel and/or in-person activities, the Department will consider postponing the event or offering a virtual program in lieu of an in-person agenda. In the event of a postponement, the Department will notify the public and applicants previously selected to participate in this mission will need to confirm their availability but need not reapply. Should the decision be made to organize a virtual program, the Department will adjust fees, accordingly, prepare an agenda for virtual activities, and notify the previous selected applicants with the option to opt-in to the new virtual program.

Mission List: (additional information about each mission can be found at https://www.trade.gov/trade-missions).

U.S ICT and Energy Efficiency Trade Mission to the Western Balkans

Dates: October 23-28, 2022

Summary

The United States Department of Commerce, International Trade Administration (ITA), is organizing a U.S. ICT and Energy Efficiency Trade Mission to the Western Balkans, with specific stops in Serbia and Montenegro on October 23-28, 2022.

The ICT and Energy Efficiency Trade Mission to the Western Balkans is intended to include representatives from a variety of U.S. ICT, energy efficiency, and renewable energy technology manufactures, service providers, associations, and trade organizations. The mission will introduce the participants to foreign government experts and decision makers, service providers, end-users, and prospective partners whose needs and capabilities are best suited to each U.S. participant's strengths. Participating in an official U.S. trade delegation, rather than traveling to Serbia and Montenegro individually will not only help enhance the participants' ability to secure key business and government meetings in the Western Balkans, but also more effectively promote U.S. goods and services to a wider targeted audience. Mission participants will learn about regional priorities, policy and regulatory changes, and projects throughout the region. The purpose of the mission is to leverage the regional political and economic climate to help U.S. companies enter the markets or further expand their market share.

The meetings will match the participants with potential business partners, distributors, and importers in in the two markets and wider region. Moreover, key local industry leaders will brief mission participants on local market conditions, needs and opportunities in the various regions, and domestic regulatory and policy issues that impact the two sectors.

Proposed Timetable

*Note: The final schedule and potential site visits will depend on the availability of host government and business officials, specific goals of mission participants, and ground transportation.

Date | Schedule
Sunday, October 23, 2022 | —Trade Mission Participants arrive in Belgrade, Serbia and check-in their hotel.
| —Those that arrive on time can attend an optional cultural/sightseeing event and a welcome dinner.
Monday, October 24, 2022 | —Morning Embassy Briefing on Doing Business in Serbia.
| —Meeting with Ministry of Trade, Tourism, and Telecommunications. —Networking lunch with AmCham. —Afternoon B2B Meetings. —Reception hosted by Ambassador Godfrey.
Tuesday, October 25, 2022 | —Meeting with Ministry of Mining and Energy.
| —Networking lunch and B2G Meeting. —Plenary Event at Serbian Chamber of Commerce. —Open Balkans Regional Business Networking Reception.
Wednesday, October 26, 2022 | —Transfer to airport for travel to Podgorica, Montenegro.
| —Networking Lunch. — Afternoon Embassy briefing on doing business in Montenegro. —Dinner.
Thursday, October 27, 2022 | —Meetings with Montenegrin Government.
| —Networking lunch with AmCham. —B2G Roundtable. —B2B Meetings. —Reception hosted by Chief of Mission.
Friday, October 28, 2022 | —Morning B2B Meetings.
| —Morning B2G Meetings. —Networking Lunch. —Checkout of hotel and transfer to Airport. —Departure to United States. —Mission Complete.

Participation Requirements

All parties interested in participating in the trade mission must complete and submit an application package for consideration by the DOC. All applicants will be evaluated on their ability to meet certain conditions and best satisfy the selection criteria as outlined below. A minimum of 20 and maximum of 30 firms and/or trade associations will be selected to participate in the mission from the applicant pool.

Fees and Expenses

After a firm or trade association has been selected to participate on the mission, a payment to the Department of Commerce in the form of a participation fee is required. The participation fee for the Trade Mission will be $1800 for small or medium-sized enterprises (SME) ¹; and $3750 for large firms or trade associations. The fee for each additional firm representative (large firm or SME/trade organization) is $250. Expenses for travel, lodging, meals, and incidentals will be the responsibility of each mission participant. Interpreter and driver services can be arranged for additional cost. Delegation members will be able to take advantage of U.S. Embassy rates for hotel rooms.

Timeframe for Recruitment and Application

Mission recruitment will be conducted in an open and public manner, including publication in the Federal Register, posting on the Commerce Department trade mission calendar (http://export.gov/trademissions) and other internet websites, press releases to general and trade media, direct mail, notices by industry trade associations and other multiplier groups, and publicity at industry meetings, symposia, conferences, and trade shows. Recruitment for the mission will begin immediately and conclude no later than August 19th, 2022. The U.S. Department of Commerce will review applications and inform applicants of selection decisions on a rolling basis. Applications received after August 19th, 2022 will be considered only if space and scheduling constraints permit.

Contacts

Embassy Belgrade/U.S. Commercial Service in Serbia

Rachel Duran, Senior Commercial Officer, 381117064072, Rachel.Duran@trade.gov

Boris Popovski, Senior Commercial Specialist, 381113064752, Boris.Popovski@trade.gov

Gordana Barac, Commercial Specialist, 381117064000, Gordana.Barac@trade.gov

Department of Commerce (Global Teams and U.S. Field)

Molly Ho, Global Technology Team Leader, U.S. Commercial Service Denver, Colorado, (303) 889-9789, Molly.Ho@trade.gov

Danielle Caltabiano, Global Energy Team Leader, U.S. Commercial Service Houston, Texas, (281) 228-5655, Danielle.Caltabiano@trade.gov

Department of Commerce HQ

Nathan Bradley, Western Balkan Desk Officer, Office of Central and Southeast Europe, (202)-482-2188, Nathan.Bradley@trade.gov

Kyle Johnson, Information Technologies Team Lead, Office of Health & Information Technologies, (202)-482-3013, Kyle.Johnson@trade.gov

Elise Reysbergen, ICT International Trade Specialist, Office of Health & Information Technologies, 202-482-3416, Elise.Reysbergen@trade.gov

Cary Ingram, Senior Telecommunications International Trade Specialist, Office of Health & Information Technologies, (202) 482-2872, Cary.Ingram@trade.gov

Andrew Moyseowicz, Senior Electric Utility Industry International Trade Specialist, Office of Energy and Environmental Industries, (202) 482-0188, Andrew.Moyseowicz@trade.gov

Gary Stanley, Director, Office of Materials, (202)-482-0376, Gary.Stanley@trade.gov

Brian Ledgerwood, Senior Building and Construction International Trade Specialist, Office of Materials, (202)-482-3836, Brian.Ledgerwood@trade.gov

Healthcare Sector Business Development Mission to Thailand, Vietnam, and Malaysia

Dates: September 19-24, 2022

Summary

The United States Department of Commerce, International Trade Administration (ITA), is organizing an executive-led healthcare sector business development mission to the Southeast Asian countries of Thailand, Vietnam, and Malaysia from September 19 to 24, 2022.

The Healthcare Sector Business Development Mission will assist U.S. health sector exporters and ITA strategic partners in exploring market opportunities into Southeast Asia, building on the Virtual Medical Technology Trade Forum to Vietnam, Malaysia, and Thailand on May 24-27, 2021. The new Mission will include matchmaking appointments, market briefings, policy-focused roundtables, and site visits to increase U.S. industry competitiveness and build relationships. Mission participants will gain firsthand knowledge of the selected Southeast Asian markets through business overviews and introductions to hospitals and clinical laboratories, government healthcare agencies, distributors, and others who could benefit from U.S. products and services.

The Trade Mission to Southeast Asia will seek to include U.S. medical products in high potential areas, such as technologies and equipment for treating non-communicable diseases.

Proposed Timetable

* Note: The final schedule and potential site visits will depend on the availability of host government and business officials, specific goals of mission participants, and ground transportation.

Thailand Day 1 | Trade Mission Participants Arrive in Bangkok.
Sunday, September 18
Thailand Day 1 | Optional: Morning Rest.
Monday, September 19 | • Welcome remarks by U.S. Ambassador. • U.S. Mission Thailand market briefing. • Welcome remarks on Thailand's healthcare and medical tourism by Ministry of Public Health. • Panel discussion on Thailand's non-communicable disease treatments and technologies. • Panel discussion on plastic surgery and medical aesthetics. • One-on-one meetings with potential distributors. • Networking reception at the Ambassador's Residence or hotel and meeting with invitees from Thailand's healthcare industry.
Thailand Day 2 | • Continued one-one-one meetings. • Meetings with medical device associations/hospitals.
Tuesday, September 20 | Travel to Hanoi, Vietnam • U.S. Embassy Briefing and Welcome at the Ambassador's Residence.
Vietnam Day 1 | • Meeting the Ministry of Health (MOH) Vietnam:
Wednesday, September 21 | ○-Welcome remarks by Delegation and MOH. ○-MOH Briefing on Vietnamese Healthcare system with applicable regulations. ○-Open Discussion on Vietnam's Development Strategies for Healthcare. • Visit to one Public or Private hospital's. • One-on-one meetings with potential partners/distributors (in person if potential partners are based in Hanoi and virtual meetings with potential partners based in Ho Chi Minh City). • Networking reception at a hotel and meeting with invitees from Vietnam's healthcare industry and U.S. Embassy Officers.
Vietnam Day 2 | • Morning: possible second day of one-on-one meetings at hotel and/or visit to local medical device association.
Thursday, September 22 | Travel to Kuala Lumpur, Malaysia
Malaysia Day 1 | • Meeting with the Ministry of Health (MOH) Malaysia: —Welcome remarks on the Malaysian healthcare system and non-communicable diseases by MOH.
Friday, September 23 | • Delegate to present U.S. solutions. • Meeting with Malaysia Medical Device Association (MMDA)/Association of Malaysian Medical Industries (AMMI). • U.S. Embassy Malaysia briefing—Political, Economic, Commercial climate/context. • Additional meeting(s) and/or one-on-one meetings with Malaysian healthcare industry and stakeholders, as well as potential partners/distributors. • Networking reception at Chief of Mission Residence/hotel and meet with invitees from Malaysian government and healthcare industry and U.S. Embassy officers.
Malaysia Day 2 | • Depart Malaysia.
Saturday, September 24

Participation Requirements

All parties interested in participating in the trade mission must complete and submit an application package for consideration by the DOC. All applicants will be evaluated on their ability to meet certain conditions and best satisfy the selection criteria as outlined below. A minimum of 12 and maximum of 15 firms and/or trade associations will be selected to participate in the mission from the applicant pool.

Fees and Expenses

After a firm or trade association has been selected to participate on the mission, a payment to the Department of Commerce in the form of a participation fee is required. The participation fee for the Healthcare Business Development Mission will be $5,300 for small or medium-sized enterprises (SME) ¹; and $6,200 for large firms or trade associations. The fee for each additional firm representative (large firm or SME/trade organization) is $500.

Timeframe for Recruitment and Application

Mission recruitment will be conducted in an open and public manner, including publication in the Federal Register, posting on the Commerce Department trade mission calendar (http://export.gov/trademissions) and other internet websites, press releases to general and trade media, direct mail, notices by industry trade associations and other multiplier groups, and publicity at industry meetings, symposia, conferences, and trade shows. Recruitment for the mission will begin immediately and conclude no later than June 30, 2022. The U.S. Department of Commerce will review applications and inform applicants of selection decisions on a comparative basis. Applications received after June 30, 2022 will be considered only if space and scheduling constraints permit.

Contacts

Lisa Huot, Senior International Trade Specialist, Office of Health and Information Technologies, Washington, DC, Ph: 202-482-2796, lisa.huot@trade.gov

Miguel Olivares, Senior International Trade Specialist, Export Assistance Center, Ft. Lauderdale, Florida, Ph: 954-356-6649, Miguel.Olivares@trade.gov

Krista Barry, Vietnam and Malaysia Desk Officer, Global Markets Asia, Washington, DC, Ph: 202-389-2298, Krista.Barry@trade.gov

Thailand/ASEAN Region

John Breidenstine, ASEAN Regional Senior Commercial Officer, Bangkok, Thailand, p.+6622055280, john.breidenstine@trade.gov

Charles Phillips, Deputy Senior Commercial Officer, Bangkok, Thailand, p. +66-2205-5263, charles.phillips@trade.gov

Vietnam

Stephen Jacques, Acting Senior Commercial Officer, The U.S. Commercial Service, U.S. Embassy, Hanoi, Vietnam, Ph: +(84) 090-319-6788, Stephen.Jacques@trade.gov

Malaysia

Francis Peters, Senior Commercial Officer, Kuala Lumpur, Malaysia, Ph: +60 1 2383-2030, Francis.Peters@trade.gov

Dated: March 14, 2022.
Gemal Brangman,
Director, ITA Events Management Task Force.

[FR Doc. 2022-05707 Filed 3-17-22; 8:45 am]

BILLING CODE 3510-DR-P